DEPARTMENT OF LABOR

Employment and Training Administration

[TA-W-50,713]

Jideco of Bardstown, Inc., Farmington Hills, MI; Notice of Termination of Investigation

Pursuant to section 221 of the Trade Act of 1974, as amended, an investigation was initiated on January 28, 2003, in response to a worker petition filed by a company official on behalf of workers at Jideco of Bardstown, Inc., Farmington Hills, Michigan.

The petitioner has requested that the petition be withdrawn. Consequently, the investigation has been terminated.

Signed in Washington, DC, this 3rd day of March, 2003.
Richard Church,
Certifying Officer, Division of Trade Adjustment Assistance.

[FR Doc. 03-6567 Filed 3-18-03; 8:45 am]

BILLING CODE 4510-30-P